DEPARTMENT OF TRANSPORTATION

National Highway Traffic Safety Administration

[Docket No. NHTSA 02-13571]

Motor Vehicle Safety: Reimbursement Prior to Recall

AGENCY: National Highway Traffic Safety Administration (NHTSA), Department of Transportation.

ACTION: Request for public comment on a proposed collection of information.

SUMMARY: Before a Federal agency can collect certain information from the public, it must receive approval from the Office of Management and Budget (OMB). Under procedures established by the Paperwork Reduction Act of 1995, before seeking OMB approval, Federal agencies must solicit public comment on proposed collection of information.

This document describes a collection of information for which NHTSA intends to seek OMB approval.

DATES: Comments must be received on or before December 16, 2002.

ADDRESSES: Comments must refer to the docket and notice numbers cited at the beginning of this notice and is submitted to Docket Management, Room PL-401, 400 Seventh Street SW., Washington, DC 20590. Please identify the propose collection of information for which a comment is provided by referencing its OMB Clearance Number. It is requested, but not required, that one (1) original plus two (2) copies of the comments be provided. The Docket Section is open on weekdays from 9:30 a.m. to 4 p.m.

FOR FURTHER INFORMATION CONTACT: Mr. George Person, Office of Defects Investigation, NHTSA, 400 Seventh Street, SW., Room 5326, Washington, DC 20590. Mr. Person's telephone number is (202) 366-5210.

SUPPLEMENTARY INFORMATION: Under the Paperwork Reduction Act of 1995, before an agency submits a proposed collection of information to OMB for approval, it must publish a document in the Federal Register providing a 60-day comment period and otherwise consult with members of the public and affected agencies concerning each proposed collection of information. The OMB has promulgated regulations describing what must be included in such a document. Under OMB's regulations (at 5 CFR 1320.8(d)), an agency must ask for public comment on the following:

(i) Whether the proposed collection of information is necessary for the proper performance of the functions of the agency, including whether the information will have practical utility;

(ii) The accuracy of the agency's estimate of the burden of the proposed collection of information, including the validity of the methodology and assumptions;

(iii) How to enhance the quality, utility, and clarity of the information to be collected; and

(iv) How to minimize the burden of the collection of information on those who are to respond, including the use of appropriate automated, electronic, mechanical, or other technological collection techniques or other forms of information technology, e.g., permitting electronic submission of responses.

In compliance with these requirements, NHTSA asks public comment on the following proposed collections of information:

Reimbursement Prior to Recall

Type of Request—Revision to existing collection.

OMB Clearance Number—2127-0004.

Requested Expiration Date of Approval—Three years from effective date of final rule on reimbursement prior to recall.

Summary of Collection of Information—The Transportation Recall Enhancement, Accountability, and Documentation (TREAD) Act, was enacted on November 1, 2000, Pub. L. 106-414. Section 6(b) of the TREAD Act amended 49 U.S.C. 30120(d) to require a manufacturer's remedy program to include a plan for reimbursing an owner or purchaser who incurred the cost of the remedy within a reasonable time in advance of the manufacturer's notification under subsection (b) or (c) of section 30118. On December 11, 2001, NHTSA issued a notice of proposed rulemaking that would implement this section by amending 49 CFR 573.6 to require manufacturers to submit reimbursement plans to NHTSA and by adding a new section, 49 CFR 573.13, that sets forth what must be included in such plans.

Description of the Need for the Information and Proposed Use of the Information—This information is necessary to enable NHTSA to review manufacturers' reimbursement plans to ensure that they meet the requirements of the TREAD Act and 49 CFR 573.13, and to assure that the information will be available to the public.

Description of the Likely Respondents (Including Estimated Number and Proposed Frequency of Responses to the Collection of Information)—All manufacturers of motor vehicles and motor vehicle equipment that conduct safety recall campaigns would be required to comply with the reporting requirements. Based on recent history, we estimate that fewer than 500 safety recall campaigns will be conducted annually by no more than 170 different manufacturers. The rule would allow manufacturers to submit general reimbursement plans that may be incorporated into defect and noncompliance information reports submitted to NHTSA pursuant to 49 CFR part 573 (part 573 Reports) by reference rather than providing detailed plans to NHTSA for each safety recall campaign. Specific information regarding a particular campaign, such as the dates for the reimbursement period, would be submitted for each recall as part of the manufacturer's part 573 Reports.

Estimate of the Total Annual Reporting and Recordkeeping Burden Resulting from the Collection of Information—In order to provide the required information, manufacturers that conduct a recall must prepare a reimbursement plan and submit it to NHTSA. Ordinarily, we expect that this will consist of a general plan and supplemental information specific to each recall. We estimate that preparing the general plan would require 8 hours of a combination of types of staff at an average hourly rate of $60.00 per hour. Further, we estimate that no more than one hour would be required to include the additional information about a particular recall into individual part 573 Reports. The total burden hours would be 1,860 hours ((8×170)+(1×500)) and the total cost of the hours' burden would be $111,600 (1,860×$60).

Estimate of the Total Annual Costs of the Collection of Information—Other than the cost of the hours' burden, we estimate that there would be no additional annual costs associated with this information collection.

Authority: 44 U.S.C. 3506(c); delegation of authority at 49 CFR 1.50. and 501.3(c).

Issued on: October 9, 2002.
Kenneth N. Weinstein,
Associate Administrator for Enforcement.

[FR Doc. 02-26201 Filed 10-15-02; 8:45 am]

BILLING CODE 4910-59-P